DEPARTMENT OF COMMERCE

Foreign-Trade Zones Board

[B-61-2022]

Foreign-Trade Zone (FTZ) 61—San Juan, Puerto Rico; Notification of Proposed Production Activity, Boehringer Ingelheim Animal Health Puerto Rico LLC, (Pharmaceutical Products/Canine), Barceloneta, Puerto Rico

Boehringer Ingelheim Animal Health Puerto Rico LLC submitted a notification of proposed production activity to the FTZ Board (the Board) for its facility in Barceloneta, Puerto Rico within Subzone 61AC. The notification conforming to the requirements of the Board's regulations (15 CFR 400.22) was received on December 13, 2022.

Pursuant to 15 CFR 400.14(b), FTZ production activity would be limited to the specific finished product(s) described in the submitted notification (summarized below) and subsequently authorized by the Board. The benefits that may stem from conducting production activity under FTZ procedures are explained in the background section of the Board's website—accessible via www.trade.gov/ftz. The proposed finished product(s) would be added to the production authority that the Board previously approved for the operation, as reflected on the Board's website.

The proposed finished products include medicament that treats fleas and ticks in finished (packaged) and semi-finished (unpackaged) chewable tablets for canines (duty rate is duty-free).

Public comment is invited from interested parties. Submissions shall be addressed to the Board's Executive Secretary and sent to: ftz@trade.gov. The closing period for their receipt is January 30, 2023.

A copy of the notification will be available for public inspection in the “Online FTZ Information System” section of the Board's website.

For further information, contact Juanita Chen at juanita.chen@trade.gov.

Dated: December 15, 2022.
Andrew McGilvray,
Executive Secretary.

[FR Doc. 2022-27690 Filed 12-20-22; 8:45 am]

BILLING CODE 3510-DS-P